FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 2, 2011.

A. Federal Reserve Bank of Atlanta (Clifford Stanford, Vice President) 1000 Peachtree Street, N.E., Atlanta, Georgia 30309:

1. Phillip Frost, Miami Beach, Florida; to acquire voting shares of Coconut Grove Bankshares, Inc., and thereby indirectly acquire voting shares of Coconut Grove Bank, both of Miami, Florida.

Board of Governors of the Federal Reserve System, April 12, 2011.
Robert deV. Frierson,
Deputy Secretary of the Board.

[FR Doc. 2011-9166 Filed 4-14-11; 8:45 am]

BILLING CODE 6210-01-P